DEPARTMENT OF STATE

[Public Notice: PN-6003]

60-Day Notice of Proposed Information Collection: DS-3035, J Visa Waiver Recommendation Application, OMB Control Number 1405-0135

ACTION: Notice of request for public comments.

SUMMARY: The Department of State is seeking Office of Management and Budget (OMB) approval for the information collection described below. The purpose of this notice is to allow 60 days for public comment in the Federal Register preceding submission to OMB. We are conducting this process in accordance with the Paperwork Reduction Act of 1995.

• Title of Information Collection: J Visa Waiver Recommendation Application.

• OMB Control Number: 1405-0135.

• Type of Request: Extension of a Currently Approved Collection.

• Originating Office: Bureau Of Consular Affairs, Department of State (CA/VO).

• Form Number: DS-3035.

• Respondents: J Visa holders applying for a waiver of the two-year foreign residence requirement.

• Estimated Number of Respondents: 10,000.

• Estimated Number of Responses: 10,000.

• Average Hours per Response: 1 hour.

• Total Estimated Burden: 10,000 hours.

• Frequency: On occasion.

• Obligation to Respond: Required to Obtain or Retain a Benefit.

DATES: The Department will accept comments from the public up to 60 days from December 6, 2007.

ADDRESSES:

You may submit comments by any of the following methods:

• E-mail: VisaRegs@state.gov (Subject line must read DS-3035 Reauthorization).

• Mail (paper, disk, or CD-ROM submissions): Chief, Legislation and Regulation Division, Visa Services—DS-3035 J Visa Waiver Recommendation Application, 2401 E Street, NW., Washington DC 20520-30106.

• Fax: (202) 663-3898.

You must include the DS form number (if applicable), information collection title, and OMB control number in any correspondence.

FOR FURTHER INFORMATION CONTACT: Direct requests for additional information regarding the collection listed in this notice, including requests for copies of the proposed information collection and supporting documents, to Lauren Prosnik of the Office of Visa Services, U.S. Department of State, 2401 E Street, NW., L-603, Washington, DC 20522, who may be reached at (202) 663-2951.

SUPPLEMENTARY INFORMATION: We are soliciting public comments to permit the Department to:

• Evaluate whether the proposed information collection is necessary for the proper performance of our functions.

• Evaluate the accuracy of our estimate of the burden of the proposed collection, including the validity of the methodology and assumptions used.

• Enhance the quality, utility, and clarity of the information to be collected.

• Minimize the reporting burden on those who are to respond, including the use of automated collection techniques or other forms of technology.

Abstract of proposed collection:

Form DS-3035 is used to determine the eligibility of a J Visa holder for a waiver of the two-year foreign residence requirement.

Methodology:

Form DS-3035 will be mailed to the Waiver Review Division of the State Department.

Dated: November 7, 2007.
Stephen A. Edson,
Deputy Assistant Secretary, Bureau of Consular Affairs, Department of State.

[FR Doc. E7-23672 Filed 12-5-07; 8:45 am]

BILLING CODE 4710-06-P